NATIONAL FOUNDATION FOR THE ARTS AND THE HUMANITIES

National Endowment for the Arts; National Council on the Arts 172nd Meeting; Amendment Notice

Pursuant to section 10(a)(2) of the Federal Advisory Committee Act (Pub. L. 92-463), as amended, this notice is to announce changes to the previously announced meeting of the National Council on the Arts.

The session on Thursday, March 24th, previously announced for 5 p.m. to 5:30 p.m., will instead be held from 4:45 p.m. to 5:15 p.m. (ending time is approximate). The session on Friday, March 25th, will be held from 9 a.m. to 11 a.m.

Any interested persons may attend, as observers, Council discussions and reviews that are open to the public. If you need special accommodations due to a disability, please contact the Office of AccessAbility, National Endowment for the Arts, 1100 Pennsylvania Avenue, NW., Washington, DC 20506, 202/682-5532, TTY-TDD 202/682-5429, at least seven (7) days prior to the meeting.

Further information with reference to this meeting can be obtained from the Office of Communications, National Endowment for the Arts, Washington, DC 20506, at 202/682-5570.

Dated: March 8, 2011.
Kathy Plowitz-Worden,
Panel Coordinator, Office of Guidelines and Panel Operations.

[FR Doc. 2011-5604 Filed 3-10-11; 8:45 am]

BILLING CODE 7537-01-P